DEPARTMENT OF THE TREASURY

Submission for OMB Review; Comment Request

May 13, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 23, 2005 to be assured of consideration.

Departmental Offices/Office of Foreign Assets Control

OMB Number: 1505-0202.

Form Numbers: TD F 90-22.60 and TD F 90-22.60(SP).

Type of Review: Extension.

Title: Request for a Specific License to Visit and Immediate Family Member.

Description: Submissions will provide the U.S. Government with information to be used in enforcing the limitations on Cuba travel-related transactions incident to visiting immediate family members by persons subject to U.S. jurisdiction.

Respondents: Individuals or households.

Estimated Number of Respondents: 35,000.

Estimated Burden Hours Per Respondent: 10 minutes.

Frequency of Response: Other (Triennially).

Estimated Total Reporting Burden: 5,833 hours.

Clearance Officer: Lois K. Holland, (202) 622-1563, Departmental Offices, Room 11000, 1750 Pennsylvania Avenue, NW., Washington, DC 20220.

OMB Reviewer: Alexander T. Hunt, (202) 395-7316, Office of Management and Budget, Room 10235, New Executive Office Building, Washington, DC 20503.

Lois K. Holland,
Treasury PRA Clearance Officer.

[FR Doc. 05-10312 Filed 5-23-05; 8:45 am]

BILLING CODE 4811-16-P